DEPARTMENT OF HOMELAND SECURITY

Federal Emergency Management Agency

[Docket ID FEMA-2011-0032; OMB No. 1660-0068]

Agency Information Collection Activities: Proposed Collection; Comment Request, Federal Hotel and Motel Fire Safety Declaration Form

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the collection of information regarding the existence of smoke detectors and sprinkler systems within hotels and motels.

DATES: Comments must be submitted on or before January 9, 2012.

ADDRESSES: To avoid duplicate submissions to the docket, please use only one of the following means to submit comments:

(1) Online. Submit comments at http://www.regulations.gov under Docket ID FEMA-2011-0032. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2011-0032 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Bruce Hensler, Fire Program Specialist, FEMA/U.S. Fire Administration, (301) 447-1263 for additional information. You may contact the Records Management Division for copies of the proposed collection of information at facsimile number (202) 646-3347 or email address: FEMA-Information-Collections-Management@dhs.gov.

SUPPLEMENTARY INFORMATION: Public Law 101-391 requires FEMA to establish and maintain a list of hotels, motels, and similar places of public accommodation meeting minimum requirements for protection of life from fire; the list is known as the National Master List (NML). This law resulted from a series of deadly fires in hotels and motels, occurring in the late 70's and 80's, with high loss of life. The legislative intent of this public law is to provide all travelers the assurance of fire-safety in accommodations identified on the National Master List. Public Law 101-391 further stipulates that Federal employees on official travel stay in properties approved by the authority having jurisdiction (AHJ) and listed on the current NML.

Collection of Information

Title: Federal Hotel and Motel Fire Safety Declaration Form.

Type of Information Collection: Extension, without change, of a currently approved information collection.

OMB Number: 1660-0068.

Form Titles and Numbers: FEMA Form 516-0-1, Federal Hotel and Motel Fire Safety Declaration Form.

Abstract: FEMA collects information voluntarily offered by places of accommodation regarding the existence of smoke detectors and automatic fire sprinkler systems. The information is compiled as a National Master List of lodging establishments meeting minimum criteria for life-safety from fire, as defined in the Hotel and Motel Fire Safety Act of 1990. The list is used by Federal employees to select lodging for work-related travel and by the general public seeking life-safety while traveling.

Affected Public: Business or other for-profit; State, local or Tribal Government.

Estimated Total Annual Burden Hours: 694 hours.

Estimated Annualized Burden Hours and Costs
Type of respondent | Form name/form number | Number of respondents | Number of responses per respondent | Total Number of responses | Average burden per response (in hours) | Total annual burden (in hours) | Average hourly wage rate | Total annual respondent cost
Business or other for-Profit | Federal Hotel and Motel Fire Safety Declaration Form/FEMA Form 516-0-1 | 2,275 | 1 | 2,275 | 0.25 (15 mins.) | 569 | $36.72 | $20,894
State, local or Tribal Government | Review of FEMA Form 516-0-1 | 19 | 20 | 380 | 0.33 (20 mins.) | 125 | 35.70 | 4,463
Total |  | 2,294 |  | 2,655 |  | 694 |  | 25,357

Estimated Cost: The estimated annual cost to respondents for the hour burden is $25,357. There are no annual costs to respondents operations and maintenance costs for technical services. There is no annual start-up or capital costs. The cost to the Federal Government is $71,141.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-28978 Filed 11-8-11; 8:45 am]

BILLING CODE 9111-45-P